COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were furnished by nonprofit agencies employing persons who are blind or have other severe disabilities.

DATES: Comments must be received on or before: June 2, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSNs—Product Names:

7510-01-545-4433—DAYMAX System, 2018, Calendar Pad, Type II

7510-01-545-3769—DAYMAX System, 2018, Calendar Pad, Type I

Mandatory Source of Supply: Anthony Wayne Rehabilitation Ctr for Handicapped and Blind, Inc., Fort Wayne, IN

Contracting Activity: GSA/FAS ADMIN SVCS ACQUISITION BR(2, NEW YORK, NY

Services

Service Type: Janitorial/Custodial

Mandatory for: U.S. Army Reserve Center: 1605 Four Mile Drive Lycoming Memorial, Williamsport, PA

Mandatory Source of Supply: Hope Enterprises, Inc., Williamsport, PA

Contracting Activity: DEPT OF THE ARMY, W40M RHCO-ATLANTIC USAHCA

Service Type: Custodial Services

Mandatory for: Fitness Center, Building 1363, Ellington Field, Houston, TX

Mandatory Source of Supply: On Our Own Services, Inc., Houston, TX

Contracting Activity: DEPT OF THE ARMY, W7N2 USPFO ACTIVITY TX ARNG

Service Type: Janitorial Service

Mandatory for: ICE, VA Hudson Valley HealthCare System Campus, Bldg. 7, Floors 1, 2, 3 & Basement, Castle Point, NY

Mandatory Source of Supply: Access: Supports for Living Inc., Middletown, NY

Contracting Activity: U.S. IMMIGRATION AND CUSTOMS ENFORCEMENT, COMPLIANCE&REMOVALS

Service Type: Operation of Support Services

Mandatory for: National Advocacy Center, 1620 Pendleton Street, Columbia, SC

Mandatory Source of Supply: Challenge Enterprises of North Florida, Inc., Green Cove Springs, FL

Contracting Activity: FEDERAL PRISON SYSTEM, TERMINAL ISLAND, FCI

Service Type: Dupli./Distri. Computer Output Microfilm

Mandatory for: Social Security Administration: Office of Acquisition and Grants, Baltimore, MD

Mandatory Source of Supply: Alliance, Inc., Baltimore, MD

Contracting Activity: SOCIAL SECURITY ADMINISTRATION, SOCIAL SECURITY ADMINISTRATION

Service Type: Administrative Services

Mandatory for: USDA Forest Products Laboratory: One Gifford Pinchot Dr., Madison, WI

Mandatory Source of Supply: Madison Area Rehabilitation Centers, Inc., Madison, WI

Contracting Activity: FOREST SERVICE, DEPT OF AGRIC/FOREST SERVICE

Service Type: Janitorial/Custodial

Mandatory for: Bombay Hook National Wildlife Refuge, Smyrna, DE

Mandatory Source of Supply: UNKNOWN

Contracting Activity: OFFICE OF POLICY, MANAGEMENT, AND BUDGET, NBC ACQUISITION SERVICES DIVISION

Service Type: Custodial Services

Mandatory for: New York Air National Guard, Stewart Air National Guard Base, Newburgh, NY

Mandatory Source of Supply: Access: Supports for Living Inc., Middletown, NY

Contracting Activity: DEPT OF THE ARMY, W7NR USPFO ACTIVITY NY ARNG

Service Type: Base Operational Support

Mandatory for: Joint Base Andrews, Andrews AFB, MD

Mandatory Source of Supply: Davis Memorial Goodwill Industries, Washington, DC

Contracting Activity: DEPT OF THE AIR FORCE, FA4416 316 CONS LGC

Service Type: Administrative Services

Mandatory for: Fort Carson Army: SFCA-NR-CR, Fort Carson, CO

Mandatory Source of Supply: Bayaud Industries, Inc., Denver, CO

Contracting Activity: DEPT OF THE ARMY, W40M RHCO-ATLANTIC USAHCA

Service Type: Custodial & Grounds Maintenance

Mandatory for: US Army Reserve, SSG Reynolds J. King USARC, Ithaca, NY

Mandatory Source of Supply: NYSARC, Inc., Seneca-Cayuga Counties Chapter, Waterloo, NY

Contracting Activity: DEPT OF THE ARMY, W6QM MICC-FT DIX (RC-E)

Service Type: Janitorial/Custodial

Mandatory for: US Army Reserve, James W. Wadsworth USARC, Rochester, NY

Mandatory Source of Supply: Rochester Rehabilitation Center, Rochester, NY

Contracting Activity: DEPT OF THE ARMY, W6QK ACC-PICA

Service Type: Recycling Service

Mandatory for: Davis-Monthan Air Force Base, AZ

Mandatory Source of Supply: Beacon Group, Inc., Tucson, AZ

Contracting Activity: VETERANS AFFAIRS, DEPARTMENT OF, NAC

Service Type: Supply and Warehousing Service

Mandatory for:

263rd Supply Support activity: 544th Maintenance Battalion, Fort Hood, TX

289th Quartermaster Co Class III, II & 14, Fort Hood, TX

289th Supply Support Activity Map Depot, 13th COSCOM, Fort Hood, TX

289th Supply Support Activity Weapons Warehouse: 13th COSCOM, Fort Hood, TX

565th Supply Support Activity: 544th Maintenance Battalion, 13th COSCOM, Fort Hood, TX

602nd Supply Support Activity, 13th COSCOM, Fort Hood, TX

62nd Supply Support Activity Main, Fort Hood, TX

A/204th Forward Support Battalion: 4th Infantry Division, Fort Hood, TX

A/4th Forward Support Battalion: 4th Infantry Division, Fort Hood, TX

A/404th Aviation Support Battalion: 4th Infantry Division, Fort Hood, TX

A/615th Aviation Support Battalion: 1st Cavalry Division, Fort Hood, TX

B/115th Forward Support Battalion, 1st Cavalry Division Fort Hood, TX

B/15th Forward Support Battalion, 1st Cavalry Division, Fort Hood, TX

B/215th Forward Support Battalion, 1st Cavalry Division, Fort Hood, TX

E/27th Main Support Battalion: 1st Cavalry Division, Fort Hood, TX

E/704th Main Support Battalion: 4th Infantry Division, Fort Hood, TX

Fort Hood: 565th Quartermaster Company, Fort Hood, TX

Yard 26th III Corp Major End Items Class VII, Fort Hood, TX

Mandatory Source of Supply: Professional Contract Services, Inc., Austin, TX

Contracting Activity: DEPT OF THE ARMY, W6QM MICC-FDO FT HOOD

Service Type: Custodial Services

Mandatory for: Fort Custer Education Center, Augusta, MI

Mandatory Source of Supply: Navigations, Incorporated, Battle Creek, MI

Contracting Activity: DEPT OF THE ARMY, W7NF USPFO ACTIVITY MI ARNG

Service Type: Personal Environmental Protection & Survival Equip

Mandatory for: US Army, US Army REDCOM Acquisition Center, 3 Kansas Street, Natick, MA

Mandatory Source of Supply: Peckham Vocational Industries, Inc., Lansing, MI

Contracting Activity: DEPT OF THE ARMY, W6QK ACC-APG NATICK

Service Type: Janitorial/Custodial

Mandatory for: Maintenance Overhaul and Technical Service Center, Franklin Park, IL

Mandatory Source of Supply: Lester and Rosalie ANIXTER CENTER, Chicago, IL

Contracting Activity: U.S. Postal Service, Washington, DC

Service Type: Custodial Services

Mandatory for: 5A NYC Terminal Market: USDA, AMS F&V Division, Bronx, NY

Mandatory Source of Supply: The Corporate Source, Inc., New York, NY

Contracting Activity: ANIMAL AND PLANT HEALTH INSPECTION SERVICE, DEPT OF AGRIC/ANIMAL AND PLANT HLTH INSP SVC

Patricia Briscoe,
Deputy Director, Business Operations (Pricing and Information Management).

[FR Doc. 2019-09047 Filed 5-2-19; 8:45 am]

BILLING CODE 6353-01-P